ENVIRONMENTAL PROTECTION AGENCY

[FRL-7154-5]

Agency Information Collection Activities: Submission for OMB Review; Comment Request; Clean Watersheds Needs Survey, EPA ICR No. 0318.09, OMB Control No. 2040-0050, Expiration Date February 28, 2002

AGENCY: Environmental Protection Agency (EPA).

ACTION: Notice.

SUMMARY: In compliance with the Paperwork Reduction Act (44 U.S.C. 3501 et seq.), this document announces that the following Information Collection Request (ICR) has been forwarded to the Office of Management and Budget (OMB) for review and EPA ICR No. 0318.09, OMB Control No. 2040-0050, expiration date February 28, 2002. The ICR describes the nature of the information collection and its expected burden and cost; where appropriate, it includes the actual data collection instrument.

DATES: Comments must be submitted on or before April 8, 2002.

ADDRESSES: Send comments, referencing EPA ICR No. 0318.09 and OMB Control No. 2040-0050, to the following addresses: Susan Auby, U.S. Environmental Protection Agency, Collection Strategies Division (Mail Code 2822), 1200 Pennsylvania Avenue, NW, Washington, DC. 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at auby.susan@epa.gov or download off the internet or download off of the Internet at http://www.epa.gov/icr and refer to EPA ICR 0318.09. For technical questions about the ICR please call Sandra Perrin at (202) 564-0668 in the Office of Water.

SUPPLEMENTARY INFORMATION: Title: Clean Watersheds Needs Survey (OMB Control No. 2040-0050; EPA

ICR No. 0318.09; expiring 2/28/2002. This is a renewal of a currently approved collection.

Abstract: The Clean Watersheds Needs Survey is required by sections 205(a) and 516(b)(1) of the Clean Water Act. It is a periodic inventory of existing and proposed publicly owned wastewater treatment works (POTWs) and other water pollution control facilities in the United States, as well as an estimate of how many POTWs are needed to be built. The Clean Watersheds Needs Survey is a voluntary joint effort of EPA and the States. The Survey records cost and technical data associated with all POTWs and other water pollution control facilities, existing and proposed, in the United States. The States provide this information to EPA. No confidential information is used, nor is sensitive information protected from release under the Public Information Act, used. EPA achieves national consistency in the final results through the application of uniform guidelines and validation techniques. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 27, 2001; no comments were received.

Burden Statement: The annual public reporting and record keeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: The respondents are the States, District of Columbia, Puerto Rico, Virgin Islands and Pacific Territories.

Estimated Number of Respondents: 56.

Frequency of Response: every 4 years.

Estimated Total Annual Hour Burden: 7,672 hours.

Send comments on the Agency's need for this information, the accuracy of the provided burden estimates, and any suggested methods for minimizing respondent burden, including through the use of automated collection techniques to the addresses listed above. Please refer to EPA ICR No.0318.09 and OMB Control No. 2040-0050 in any correspondence.

Dated: February 26, 2002.
Oscar Morales, Director,
Collection Strategies Division.

[FR Doc. 02-5451 Filed 3-6-02; 8:45 am]

BILLING CODE 6560-50-P